DEPARTMENT OF ENERGY

Southwestern Power Administration

Integrated System Power Rates

Correction

In notice document 02-12683 beginning on page 35802 in the issue of Tuesday, May 21, 2002 make the following correction:

On page 35804, the table is corrected to read as set forth below.

| Existing rates | Proposed rates
GENERATION RATES | Rate Schedule P-98D (System Peaking) | Rate Schedule P-02 (System Peaking)
Capacity:
Grid or 138-161kV | $2.56/kW/Mo + up to $0.0146/kW/Mo (ancillary services) for generation within control area: Regulation Ancillary Services + $0.04/kW/Mo for deliveries within control area | $2.72/kW/Mo + up to $0.0112/kW/Mo (ancillary services) for generation within control area: Regulation Ancillary Services + $0.06/kW/Mo for deliveries within control area
69 kV | Transformation Service + $0.25/kW/Mo (applied to usage, not reservation) | Transformation Service + $0.28/kW/Mo (applied to usage, not reservation)
Energy | $0.0048/kWh of Peaking Energy and Supplemental Peaking Energy + a Purchased Power Adder of $0.0011 of Peaking Energy (± 0.0011 annually at Administrator's discretion). | $0.0050/kWh ofr Peaking Energy and Supplemental Peaking Energy + a Purchase Power Adder or $0.0025 of Peaking Energy (± 0.0011 annually at Administrator's discretion).
TRANSMISSION RATES | Rate Schedule NFTS-98D (Transmission) | Rate Schedule NFTS-02 (Transmission)
Capacity (Firm Reservation with energy)
Grid of 138-161 kV
| $0.69/W/Mo | $0.73/kW/Mo
| $0.173/kW/Week | $0.183/kW/Week
| $0.0314/kW/Day | $0.0332/kW/Day
| + Required Ancillary Services: | + Required Ancillary Services:
| $0.06/kw/Mo, or | $0.08/kW/Mo, or
| $0.016/kW/Week, or | $0.021/kW/Week, or
| $0.0028/kW/Day | $0.0037/kW/Day
| + Reserve Ancillary Services: | + Reserve Ancillary Services:
| up to: $0.00146/kW/Mo, or | up to: $0.00112/kW/Mo, or
| $0.00366/kW/Week, or | $0.0028/kW/Week, or
| $0.00066kW/Day, | $0.00050/kW/Day,
| for generation in control area | for generation in control area
| + Regulation & Freq Response | + Regulation & Freq Response
| Ancillary Service | Ancillary Service
| up to: $0.04/kW/Mo, or | up to: $0.06/kW/Mo, or
| $0.010/kW/Week, or | $0.015/kW/Week, or
| $0.0018/kW/Day, for deliveries within control area | $0.0027/kW/Day, for deliveries within control area
69 kV and below | Transformation Service | Transformation Service
| + $0.25/kW/Mo | + $0.28/KW/Mo
| no separate charge (applied on usage, not reservation). Weekly and daily rates not applied | no separate charge (applied on usage, not reservation). Weekly and daily rates not applied.
Capacity (Non-firm with energy): | no separate capacity charge $0.55/kW/Mo, or | no separate capacity charge 80% of firm monthly charge
| $0.138/kW/Week, or | divided by 4 for weekly rate,
| $0.0251/kW/Day, or | divided by 22 for daily rate and
| $0.00157/kWh, delivered | divided by 352 for hourly rate. ROW> | Network Service | $0.72/kW/Mo of Network Load | $0.73/kW/Mo of Network Load
| + Required Ancillary Services: | + Required Ancillary Services:
| $0.06/kW/Mo, or | $0.08/kW/Mo, or
| + Reserve Ancillary Services: | + Reserve Ancillary Services:
| up to: $0.00146/kW/Mo, | up to: $0.00112/kW/Mo, for
| for generation in control area | generation in control area +
| + Regulation & Freq Response
| Rate Schedule EE-98 (Excess Energy) | Rate Schedule EE-02 (Excess Energy)
Energy | $0.0048/Wh + | $0.0050/kWh +
| $0.0018/kWh (transmission) + | $0.0021/kWh (transmission) +
| Required ancillary services | Required ancillary services
| $0.00018/kWh + | $0.00023/kWh +
| $0.00018/kWh (anciullary service) | $0.00004/kWh (ancillary service)
| for generation in control area + | for generation in control area +
| $0.00011/kWh (ancillary service) | .000017/kWh (ancillary service) +
| + for deliveries in control area: | for deliveries in control area:

[FR Doc. C2-12683 Filed 6-5-02; 8:45 am]

BILLING CODE 1505-01-D